SOCIAL SECURITY ADMINISTRATION

Additional Options for Requesting Administrative Review—Title II and Title XVI

AGENCY: Social Security Administration (SSA).

ACTION: Notice.

SUMMARY: We are expanding the methods available for requesting administrative review. We now will accept oral requests from claimants in person or by telephone. This change in our procedures will make it easier for claimants to do business with us.

DATES: Effective Date: This change will be effective on August 14, 2006.

FOR FURTHER INFORMATION CONTACT: Rosemary Carey, Team Leader, Due Process Team, Social Security Administration, 6401 Security Boulevard, Baltimore, MD 21235, (410) 965-7936 or TTY (410) 966-5609.

SUPPLEMENTARY INFORMATION: Under our current procedures, claimants may request administrative review of our determinations or decisions in the Social Security and Supplemental Security Income programs by filing a written request. We are increasing the options available to claimants for requesting administrative review to now also include oral requests made in person or by telephone. We plan to revise our instructional manuals and other documents to reflect these options. As we believe these options will benefit claimants by making it easier for them to do business with us, we are implementing this change immediately.

Dated: July 31, 2006.
Martin H. Gerry,
Deputy Commissioner for Disability and Income Security Programs.

[FR Doc. E6-13245 Filed 8-11-06; 8:45 am]

BILLING CODE 4191-02-P